DEPARTMENT OF DEFENSE

Office of the Secretary

[DOD-2006-OS-0106]

32 CFR Part 286

DoD Freedom of Information Act Program Regulation

AGENCY: Department of Defense.

ACTION: Final rule.

SUMMARY: This documents removes Subpart D, “For Official Use Only” (FOUO) from 32 CFR part 286, “DoD Freedom of Information Act Program Regulations” and reserves that subpart for future use. Removing this from 32 CFR part 286 will eliminate confusion of the authoritative FOUO guidance and who is the authority on FOUO. This removal will alleviate any further uncertainty, avoid duplication of FOUO guidance, and is considered an administrative action.

DATES: Effective Date: November 27, 2006.

FOR FURTHER INFORMATION CONTACT: Mr. Stephen Fisher, 703-696-4697.

SUPPLEMENTARY INFORMATION: The Under Secretary of Defense (Intelligence) (USD(I)) is responsible for FOUO guidance. This guidance (FOUO) is included in Appendix 3 of DoD 5200.1-R ¹ which is the current FOUO guidance for the Department of Defense.

¹ Copies may be obtained at http://www.dtic.mil/whs/directives/corres/pdf/52001r_0197/p52001r.pdf.

List of Subjects in 32 CFR Part 286

Freedom of information.

PART 286—DOD FREEDOM OF INFORMATION ACT PROGRAM REGULATIONS

Accordingly, by the authority of 10 U.S.C. 301, 32 CFR part 286 is amended as follows:

1. The authority citation for 32 CFR part 286 continues to read as follows:

Authority: 5 U.S.C. 552.

2. 32 CFR part 286 is amended by removing and reserving subpart D.

Dated: October 23, 2006.
L.M. Bynum,
OSD Federal Register Liaison Officer, DoD.

[FR Doc. 06-8908 Filed 10-26-06; 8:45 am]

BILLING CODE 5001-06-M